DEPARTMENT OF HEALTH AND HUMAN SERVICES

Centers for Disease Control and Prevention

[60Day-18-0943; Docket No. CDC-2017-0100]

Proposed Data Collections Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed revision of the information collection project titled Data Collection for the Residential Care Community and Adult Day Services Center Components of the National Study of Long-Term Care Providers. CDC seeks to collect data for the residential care community and adult day services center components for the 2018 wave of the National Study of Long-Term Care Providers.

DATES: CDC must receive written comments on or before February 20, 2018.

ADDRESSES: You may submit comments, identified by Docket No. CDC-2017-0100 by any of the following methods:

• Federal eRulemaking Portal: Regulation.gov. Follow the instructions for submitting comments.

• Mail: Leroy A. Richardson, Information Collection Review Office, Centers for Disease Control and Prevention, 1600 Clifton Road NE, MS-D74, Atlanta, Georgia 30329.

Instructions: All submissions received must include the agency name and Docket Number. CDC will post, without change, all relevant comments to Regulations.gov.

Please note: Submit all public comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information shall have practical utility;

2. Evaluate the accuracy of the agency's estimate of the burden of the proposed collection of information, including the validity of the methodology and assumptions used;

3. Enhance the quality, utility, and clarity of the information to be collected;

4. Minimize the burden of the collection of information on those who respond, including through the use of appropriate automated, electronic, mechanical, or other technological collection techniques or other forms of information technology, e.g., permitting electronic submissions of responses;

5. Assess information collection costs.

Proposed Project

Data Collection for the Residential Care Community and Adult Day Service Center Components of the National Study of Long-Term Care Providers (OMB Control Number 0920-0943 Expiration Date, 05/31/2019)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources . . . [And] utilization of health care, including extended care facilities, and other institutions.”

NCHS seeks approval to collect data for the residential care community (RCC) and adult day services center (ADSC) survey components of the fourth wave of the National Study of Long-Term Care Providers (NSLTCP). The request is for one-year clearance.

As background, here are some details on the complete study design. NSLTCP voluntary survey designed to: (1) Broaden NCHS' ongoing coverage of paid and regulated long-term care (LTC) providers; (2) merge with existing administrative data on LTC providers and service users (i.e., Centers for Medicare and Medicaid Services (CMS) data on nursing homes and residents, home health agencies and patients, and hospices and patients); (3) update data more frequently on LTC providers and service users for which nationally representative administrative data do not exist; and (4) enable comparisons across LTC sectors and timely monitoring of supply, use, and characteristics of these sectors over time.

CDC will collect data collected from two types of LTC providers in the 50 states and the District of Columbia: 2,090 RCCs and 1,650 ADSCs. Data collected in 2012, 2014, and 2016 and the data collected in 2018 will include the basic characteristics, services, staffing, and practices of RCCs and ADSCs, and demographics, selected health conditions and health care utilization, physical functioning, and cognitive functioning of RCC residents and ADSC participants. The 2018 wave will include services user questionnaires.

Expected users of data from this collection effort include, but not limited to CDC and other Department of Health and Human Services (DHHS) agencies. Other potential users include the following: Office of the Assistant Secretary for Planning and Evaluation; the Administration for Community Living; and the Agency for Healthcare Research and Quality; associations, such as LeadingAge, National Center for Assisted Living, American Seniors Housing Association, Argentum (formerly Assisted Living Federation of America), National Adult Day Services Association; universities; foundations; and other private sector organizations such as the Alzheimer's Association and the AARP Public Policy Institute.

Expected burden from data collection for eligible cases is 80 minutes per respondent: 5 minutes for a contact confirmation call; 15 minutes for a screener and appointment setting call; 30 minutes for a provider questionnaire; and 30 minutes for a sampling and services user questionnaire. We estimate an eligibility rate for ADSCs of 86% and for RCCs of 76%. One-year clearance requested to cover the collection of data. The burden for the collection shown in Table 1 below. There is no cost to respondents other than their time to participate.

Estimated Annualized Burden Hours
Type of respondents | Form name | Number of respondents | Number of responses per respondent | Average burden per response (in hours) | Total burden (in hours)
RCC/ADSC Director/Designated Staff Member | Contact Confirmation Call | 3,740 | 1 | 5/60 | 312
RCC/ADSC Director/Designated Staff Member | Screener and Appointment Setting Call | 3,740 | 1 | 15/60 | 935
RCC Director/Designated Staff Member | RCC Provider Questionnaire | 1,589 | 1 | 30/60 | 795
ADSC Director/Designated Staff Member | ADSC Provider Questionnaire | 1,419 | 1 | 30/60 | 710
RCC Director/Designated Staff Member | RCC Sampling and Services User Questionnaire | 1,589 | 1 | 30/60 | 795
ADSC Director/Designated Staff Member | ADSC Sampling and Services User Questionnaire | 1,419 | 1 | 30/60 | 710
Total |  |  |  |  | 4,257

Leroy A. Richardson,
Chief, Information Collection Review Office, Office of Scientific Integrity, Office of the Associate Director for Science, Office of the Director, Centers for Disease Control and Prevention.

[FR Doc. 2017-27258 Filed 12-18-17; 8:45 am]

BILLING CODE 4163-18-P